DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by November 30, 2022 will be considered. Written comments and recommendations for the proposed information collection should be submitted within 30 days of the publication of this notice on the following website www.reginfo.gov/public/do/PRAMain. Find this information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Summer Food Site Locations for State Agencies.

OMB Control Number: 0584-0649.

Summary of Collection: Section 13 of the Richard B. Russell National School Lunch Act (NSLA) authorizes the Summer Food Service Program (SFSP) and the National School Lunch Program Seamless Summer Option (SSO) to provide low-income children with access to nutritious meals when school is not in session. Meals meeting Federal nutrition guidelines are served at no cost to all children 18 years old and under at approved SFSP and SSO sites in areas in which at least 50 percent of children are eligible for free and reduced price school meals during the school year. SFSP and SSO sites operate, by design, for a short period during the summer and their locations, hours and days of operations may not be well known to those children who depend on school lunch during the school year. The FNS-905 Summer Food Site Locator will collect this information and make it available to the public. For this revision, the responses and burden hours have increased due to an adjustment in the number of responses submitted per respondent. In addition, $1,713 that was mistakenly reported as part of the annualized respondent capital, start-up, operational, and maintenance costs in the last submission have been removed and are no longer being reported as burden costs.

Need and Use of the Information: This is an ongoing, voluntary information collection which is used by FNS to update the USDA National Hunger Clearinghouse, which is mandated under Section 26 of the NSLA. FNS collects information about the summer meal sites from State agencies using FNS-905. This form collects the site name, location, and operating details about the summer meal sites, such as dates and times of site operation. This data is then used to populate the USDA National Hunger Clearinghouse. The National Hunger Clearinghouse collects, develops, and distributes information and resources to help build the capacity of emergency food providers to address the immediate needs of struggling families and individuals while promoting self-reliance and access to healthy food. FNS also uses this information to increase participation in FNS nutrition programs through the development, coordination, and evaluation of strategic initiatives, partnerships, and outreach activities.

Description of Respondents: State, Local, or Tribal Government.

Number of Respondents: 53.

Frequency of Responses: Reporting: 11 responses in summer.

Total Burden Hours: 73.

Ruth Brown,
Departmental Information Collection Clearance Officer.

[FR Doc. 2022-23596 Filed 10-28-22; 8:45 am]

BILLING CODE 3410-30-P